DEPARTMENT OF THE INTERIOR

Bureau of Land Management

[18XL1109AF LLUTC04000 L13200000.EL0000 UTU 081895]

Notice of Availability for the Alton Coal Tract Coal Lease by Application Final Environmental Impact Statement, Utah

AGENCY: Bureau of Land Management, Interior.

ACTION: Notice of availability.

SUMMARY: In accordance with the National Environmental Policy Act of 1969 (NEPA), the Federal Land Policy and Management Act of 1976, and the Mineral Leasing Act of 1920 as amended (MLA), the Bureau of Land Management (BLM) prepared a Final Environmental Impact Statement (EIS) for the Alton Coal Tract Lease by Application (LBA), case number UTU-081895.

DATES: The BLM will not issue a final decision on the proposal for a minimum of 30 days after the date that the Environmental Protection Agency publishes its Notice of Availability in the Federal Register.

ADDRESSES: The public may review the Final EIS at the Kanab Field Office, 669 South Highway 89 A, Kanab, Utah 84741, and the BLM Utah State Office Public Room, 440 West 200 South, Suite 500, Salt Lake City, Utah 84101; during business hours, 8 a.m. to 4:30 p.m. (unless otherwise posted), Monday through Friday, except Federal holidays. The Final EIS is available online at: https://go.usa.gov/xNmE2.

FOR FURTHER INFORMATION CONTACT: Keith Rigtrup, Planner, telephone: 1-435-865-3000; email: krigtrup@blm.gov.

Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION: In accordance with 43 CFR 3425, Alton Coal Development, LLC (ACD) submitted an application on November 12, 2004, with the BLM to lease Federal coal near the town of Alton, Utah. The tract identified in the application lies immediately adjacent to an active coal mine operated by ACD on private land.

The BLM provided a 90-day public scoping period at the beginning of the EIS process to identify potential issues and concerns associated with the Proposed Action. The BLM evaluated the scoping comments and used them to develop alternatives to the Proposed Action, to guide the analysis of potential effects from leasing and mining the tract, and to identify potential mitigations for inclusion in the Draft EIS. On November 4, 2011, the BLM published in the Federal Register (76 FR 68501-502, November 4, 2011) a Notice of Availability (NOA) of the Draft EIS for public comment. Based on comments received on the Draft EIS, the BLM decided to prepare a Supplemental Draft EIS for public review before preparing and distributing the Final EIS. On June 18, 2015, the BLM published an NOA for the Supplemental Draft EIS in the Federal Register (80 FR 34931-932, June 18, 2015). The BLM evaluated and used the comments received on the Draft EIS and the Supplemental Draft EIS to produce this Final EIS.

The Final EIS analyzes and discloses to the public the direct, indirect, and cumulative environmental impacts of issuing a Federal coal lease on the Alton Coal Tract, including mining and transportation of coal to a railhead near Cedar City, Utah, and to the Intermountain Power Plant near Delta, Utah. It includes the BLM's responses to comments received during the extended 90-day public comment period, from June to September 2015, for the Supplemental Draft EIS. It also includes all alternatives considered in the Supplemental Draft EIS, including Alternative K1, the BLM's preferred alternative for this LBA, based on the analysis of the potential impacts of issuing a lease for the Alton Coal Tract.

The Final EIS analyzes three action alternatives: (1) Alternative B: 3,581 acres, 44.9 million short tons (the Proposed Action), (2) Alternative C: 3,178 acres, 39.2 million short tons (wetlands reduction), and (3) Alternative K1: 2,114 acres, 30.8 million short tons. Alternative K1 was developed in response to the pending wetland and sage-grouse issues raised during the public comment period for the Draft EIS. A No Action Alternative is also included in the Final EIS which, if selected, would preclude offering of the lease tract. All action alternatives included a detailed Greater Sage-Grouse Mitigation Plan. The Final EIS also analyzed the No-Action Alternative (Alternative A) that would reject the application to lease Federal coal. Preparation of the Final EIS included Office of Surface Mining Reclamation and Enforcement, National Park Service and Environmental Protection Agency as cooperating agencies.

The Alton Coal Tract includes approximately 44.9 million recoverable tons of in-place bituminous coal underlying the following lands in Kane County, Utah:

Salt Lake Meridian, Utah

T. 39 S., R. 5 W.,

Sec. 7, SE¼SW¼ and S½SE¼;

Sec. 18, lots 3 and 4, E½, E½NW¼, and E½SW¼

Sec. 19, lots 1 thru 4, NE¼, E½NW¼, E½SW¼, N½SE¼, and SE¼SE¼;

Sec. 20, lots 4 and 5, and N½SW¼;

Sec. 30, lots 2 thru 4, SW¼NE¼, SE¼NW¼, E½SW¼, and W½SE¼;

Sec. 31, lots 1 thru 3, NE¼, E½NW¼, NE¼SW¼, and N½SE¼;

T. 39 S., R. 6 W.,

Sec. 12, SW¼ and W½SE¼;

Sec. 13, NW¼NE¼, N½NW¼, SE¼NW¼, and SE¼;

Sec. 24, NE¼, N½NW¼, SE¼NW¼, E½SW¼, N½SE¼, and SE¼SE¼;

Sec. 25, E½NE¼, SW¼NE¼, and SE¼.

The area described, including both public and non-public surface lands, aggregate 3,581.27 Federal mineral acres according to the official plats of the surveys on file with the BLM.

Consistent with NEPA and its implementing regulations and the MLA and its implementing regulations, the BLM must prepare an environmental analysis prior to holding a competitive Federal coal lease sale. An EIS has been prepared for this particular sale. All alternatives have been analyzed and could be offered for sale. If an action alternative is selected in the subsequent ROD, that tract would be offered in a competitive lease sale, and a lease for Federal coal would be issued if the bid met or exceeded the predetermined Fair Market Value.

The alternatives considered in the Final EIS are in conformance with the Kanab Field Office Record of Decision and Approved Resource Management Plan as amended (2015).

Anyone wanting to be added to the mailing list for this project must send their request by mail, facsimile, or electronically to the addresses listed in the ADDRESSES section above.

Authority: 40 CFR 1506.6, 40 CFR 1506.10.

Edwin L. Roberson,
State Director.

[FR Doc. 2018-14917 Filed 7-12-18; 8:45 am]

BILLING CODE 4310-DQ-P